DEPARTMENT OF TRANSPORTATION

Office of the Secretary

[Docket No. DOT-OST-2004-16951]

Agency Information Collection Activities; Request for Comments; Renewed Approval of Information Collection: Aircraft Liability Insurance

AGENCY: Office of the Secretary, DOT.

ACTION: Notice and request for comments.

SUMMARY: In accordance with the Paperwork Reduction Act of 1995 (44 U.S.C. Chapter 35, as amended), this notice announces the U.S. Department of Transportation's (DOT) intention to request renewal of a previously approved information collection.

DATES: Written comments should be submitted by February 7, 2011.

ADDRESSES: You may submit comments [identified by Docket Number DOT-OST-2004-16951] by any of the following methods:

• Federal eRulemaking Portal: http://www.regulations.gov. Follow the online instructions for submitting comments.

• Fax 1-202-493-2251.

• Mail or Hand Delivery: Docket Management Facility; U.S. Department of Transportation, 1200 New Jersey Avenue, SE., W12-140, Washington, DC 20590, between 9 a.m. and 5 p.m., Monday through Friday, except on Federal holidays.

FOR FURTHER INFORMATION CONTACT: Lauralyn Remo, Chief, Air Carrier Fitness Division (X-56), Office of Aviation Analysis, Office of the Secretary, U. S. Department of Transportation, 1200 New Jersey Avenue, SE., Washington, DC 20590, (202) 366-9721.

SUPPLEMENTARY INFORMATION: Title: Aircraft Accident Liability Insurance, 14 CFR part 205.

OMB Control Number: 2106-0030.

Type of Request: Renewal of a previously approved collection.

Abstract: 14 CFR part 205 contains the minimum requirements for air carrier accident liability insurance to protect the public from losses, and directs that certificates evidencing appropriate coverage must be filed with the Department.

Respondents: U.S. and foreign air carriers.

Estimated Number of Respondents: 5,308.

Estimated Total Burden on Respondents: 6,900 hours.

Comments are invited on: (a) Whether the proposed collection of information is necessary for the proper performance of the functions of the Department, including whether the information will have practical utility; (b) the accuracy of the Department's estimate of the burden of the proposed information collection; (c) ways to enhance the quality, utility and clarity of the information to be collected; and (d) ways to minimize the burden of the collection of information on respondents, including the use of automated collection techniques or other forms of information technology.

All responses to this notice will be summarized and included in the request for OMB approval. All comments will also become a matter of public record.

Issued in Washington, DC on November 30, 2010.
Todd M. Homan,
Director, Office of Aviation Analysis.

[FR Doc. 2010-30637 Filed 12-6-10; 8:45 am]

BILLING CODE 4910-9X-P